SOCIAL SECURITY ADMINISTRATION

[Docket No: SSA-2024-0010]

Agency Information Collection Activities: Proposed Request

The Social Security Administration (SSA) publishes a list of information collection packages requiring clearance by the Office of Management and Budget (OMB) in compliance with Public Law 104-13, the Paperwork Reduction Act of 1995, effective October 1, 1995. This notice includes renewals and revisions of OMB-approved information collections, and one new collection for OMB-approval.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974

(SSA), Social Security Administration, OLCA, Attn: Reports Clearance Director, Mail Stop 3253 Altmeyer, 6401 Security Blvd., Baltimore, MD 21235, Fax: 833-410-1631, Email address: OR.Reports.Clearance@ssa.gov

Or you may submit your comments online through https://www.reginfo.gov/public/do/PRAmain by clicking on Currently under Review—Open for Public Comments and choosing to click on one of SSA's published items. Please reference Docket ID Number [SSA-2024-0010] in your submitted response.

The information collections below are pending at SSA. SSA will submit them to OMB within 60 days from the date of this notice. To be sure we consider your comments, we must receive them no later than June 10, 2024. Individuals can obtain copies of the collection instruments by writing to the above email address.

1. Supportive Housing & Individual Placement and Support (SHIPS) Study—0960-NEW.

Background:

Homelessness and unemployment are linked issues, with rising housing costs often leaving people unable to afford homes when combined with unemployment. The instability of housing makes finding employment even more challenging, creating a difficult cycle to break. While studies have shown that supportive housing programs improve housing stability, there is no significant evidence that such programs reliably increase employment among residents. Conversely, Individual Placement and Support (IPS), a proven method for supporting employment, has not demonstrated effectiveness in stabilizing housing. For the purposes of this study, we define supportive housing as housing services coupled with additional services that include case management support. These include: place-based permanent supportive housing, scattered site permanent supportive housing, and rapid rehousing.

SSA is requesting clearance to collect data for the Supportive Housing and Individual Placement and Support (SHIPS) study, under the Interventional Cooperative Agreement Program (ICAP), to determine whether participation in Individual Placement and Support (IPS) improves the employment, income, health, and self-sufficiency of people who are recently homeless and living in supportive housing. ICAP allows SSA to partner with various non-federal groups and organizations to advance interventional research connected to the Supplemental Security Income (SSI) and Social Security Disability Insurance (SSDI) programs. SSA awarded Westat a cooperative agreement to conduct SHIPS. In addition to SSA, Westat is partnering with three subrecipients for this project: (1) People Assisting the Homeless (PATH), (2) the University of Southern California (U.S.C.), and (3) the Research Foundation for Mental Hygiene (RFMH) to implement the SHIPS study.

ICAP SHIPS Study Project Description

The SHIPS study is a randomized controlled trial (RCT) designed to determine whether participation in Individual Placement and Support (IPS) improves the employment, income, health, and self-sufficiency of people who are recently homeless and living in supportive housing. The SHIPS study will mark the first study testing the effectiveness of implementing IPS in a supportive housing program. SSA hypothesizes that combining the two most successful evidence-based practices that separately address homelessness and supported employment will yield a single intervention that effectively addresses both. The intent of the SHIPS study is to measure the effectiveness of evidence based IPS compared to the services provided by local WorkSource Centers broadly available to job seekers in the Los Angeles area, The housing case managers will refer PATH clients interested in finding employment and will randomly assign participants to one of two groups:

(a) IPS: The Individual Placement and Support (IPS) service team will offer a range of structured services customized to participants' personal needs, preferences, and challenges related to disabilities and/or mental health conditions. The New Hampshire-Dartmouth Psychiatric Research Center specifically designed the IPS as a supported employment model for individuals with serious mental illness and includes standardized training and fidelity requirements. Components of IPS that differ from those offered by WorkSource Services include integrated treatment that incorporates vocational and mental health services; benefits planning; and focus on rapid job search without extensive training.

(b) WorkSource Centers: Under PATH's current housing model, housing case managers refer PATH clients who express interest in finding employment to local American Job Centers, known as WorkSource Centers in Los Angeles. The City of Los Angeles Economic and Workforce Development Department, operates the WorkSource Center, and follow an employment services model that varies by WorkSource Center; is not evidence-based or subject to fidelity monitoring; and is not necessarily responsive to the individual needs of jobseekers with disabilities.

The primary goals of the SHIPS study are:

• To measure the effects of IPS participation on employment, income, health, and long-term self-sufficiency measured as a combination of housing stability, income, and receipt of DI and SSI benefits.

• To describe the study population in order to understand both the general applicability of the study's findings and the potential reasons for the observed effects.

• To explore the IPS implementation process in supportive housing and identify the factors that make it successful or challenging to maintain high-quality implementation in the supportive housing context.

Grantee researchers and SSA will use the information collected during this study to: (1) assess the short-term and long-term effectiveness of the proposed intervention to improve employment, income, and self-sufficiency; (2) understand the implementation process and (3) provide detailed subgroup-specific data related to the effect of IPS.

The respondents are unemployed residents living in PATH-operated supportive housing units who are looking for employment.

Type of Request: Request for a new information collection.

Modality of completion | Number of respondents | Frequency of response | Number of responses | Average burden per response (minutes) | Estimated total annual burden (hours) | Average theoretical hourly cost amount (dollars) * | Average wait time in office or for teleservice centers (minutes) ** | Total annual opportunity cost (dollars) ***
Study enrollees: baseline interview | 200 | 1 | 200 | 60 | 200 | * $13.30 | ** 24 | *** $3,724
Study enrollees: quarterly interviews | 200 | 7 | 1,400 | 10 | 233 | * 13.30 | ** 21 | *** 4,030
Study enrollees: final interview | 200 | 1 | 200 | 60 | 200 | * 13.30 | ** 21 | *** 3,724
PATH Interviews: Staff | 5 | 1 | 5 | 60 | 5 | * 32.05 | ** 24 | *** 224
SHIPS Interviews: enrollees | 5 | 1 | 5 | 60 | 5 | * 13.30 | ** 24 | *** 93
Totals | 610 |  |  | 250 | 643 |  |  | *** 11,795
* We based this figure on the average DI payments based on SSA's current FY 2024 data (2024FactSheet.pdf (ssa.gov)), and survey researchers (https://www.bls.gov/oes/current/oes193022.htm).
** We based this figure on averaging both the average FY 2024 wait times for field offices and teleservice centers, based on SSA's current management information data.
*** This figure does not represent actual costs that SSA is imposing on recipients of Social Security payments to complete this application; rather, these are theoretical opportunity costs for the additional time respondents will spend to complete the application. There is no actual charge to respondents to complete the application.

2. Certification by Religious Group—20 CFR 404.1075—0960-0093. SSA is responsible for determining whether religious groups meet the qualifications exempting certain members and sects from payment of Self-Employment Contribution Act taxes under the Internal Revenue Code, Section 1402(g). SSA sends Form SSA-1458, Certification by Religious Group, to a group's authorized spokesperson to complete and verify organizational members meet or continue to meet the criteria for exemption. The respondents are spokespersons for religious groups or sects.

Type of Request: Revision of an OMB-approved information collection.

Modality of completion | Number of respondents | Frequency of response | Average burden per response (minutes) | Estimated total annual burden (hours) | Average theoretical hourly cost amount (dollars) * | Total annual opportunity cost (dollars) **
SSA-1458 | 142 | 1 | 15 | 35 | * $31.48 | ** $1,102
* We based this figure on average U.S. worker's hourly wages, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

3. Development of Participation in a Vocational Rehabilitation or Similar Program—20 CFR 404.316(c), 404.337(c), 404.352(d), 404.1586(g), 404.1596, 404.1597(a), 404.327, 404.328, 416.1321(d), 416.1331(a)-(b), and 416.1338, 416.1402—0960-0282. State Disability Determination Services (DDS) determine if Social Security disability payment recipients whose disability ceased and who participate in vocational rehabilitation programs may continue to receive disability payments. To do this, DDSs needs information about the recipients, the types of program participation, and the services they receive under the rehabilitation program. SSA uses Form SSA-4290 to collect this information. The respondents are State employment networks, vocational rehabilitation agencies, or other providers of educational or job training services.

Type of Request: Revision of an OMB-approved information collection.

Modality of completion | Number of respondents | Frequency of response | Average burden per response (minutes) | Estimated total annual burden (hours) | Average theoretical hourly cost amount (dollars) * | Average wait time in field office phone call (minutes) ** | Total annual opportunity cost (dollars) ***
SSA-4290-F5 (By mail) | 2,400 | 1 | 40 | 1,600 | * $21.27 |  | *** $34,032
SSA-4290-F5 (Telephone) | 600 | 1 | 30 | 300 | * 21.27 | ** 19 | *** 10,422
Totals | 3,000 |  |  | 1,900 |  |  | *** 44,454
* We based this figure on average Social and Human Service Assistant's hourly salary, as reported by Social and Human Service Assistants (bls.gov).
** We based this figure on the average FY 2024 wait times for field offices phone calls, based on SSA's current management information data.
*** This figure does not represent actual costs that SSA is imposing on recipients of Social Security payments to complete this application; rather, these are theoretical opportunity costs for the additional time respondents will spend to complete the application. There is no actual charge to respondents to complete the application.

4. Filing Claims Under the Federal Tort Claims Act—20 CFR 429.101-429.110—0960-0667. The Federal Tort Claims Act (FTCA) is the mechanism for compensating people who Federal employees injured through negligent or wrongful acts that occurred during the performance of those employees' official duties. SSA accepts claims filed under the FTCA for damages against the United States; loss of property; personal injury; or death resulting from an SSA employee's wrongful act or omission. The various types of claims included under this information collection request require claimants to provide information SSA can use to determine whether to make an award, compromise, or settlement under the FTCA. The respondents are individuals or entities making a claim under the FTCA.

Type of Request: Renewal of an OMB-approved information collection.

Regulation citations | Number of respondents | Frequency of response | Average burden per response (minutes) | Estimated total annual burden (hours) | Average theoretical hourly cost amount (dollars) ** | Total annual opportunity cost (dollars) ***
429.102; 429.103 * | 1 | 1 | 1 | ⁰ | ** $31.48 | *** $0
429.104(a) | 8 | 1 | 60 | 8 | ** 31.48 | *** 252
429.104(b) | 30 | 1 | 60 | 30 | ** 31.48 | *** 944
429.104(c) | 1 | 1 | 60 | 1 | ** 31.48 | *** 32
429.106(b) | 1 | 1 | 60 | 1 | ** 31.48 | *** 32
Totals | 41 |  |  | 40 |  | *** 1,260
* We are including a one-hour placeholder burden for 20 CFR 429.102 and 429.103, as respondents complete OMB-approved Form SF-95, OMB No. 1105-0008. Since the burden for these citations is covered under a separate OMB number, we are not double-counting the burden here.
** We based this figure on the average U.S. citizen's hourly salary, as reported by the U.S. Bureau of Labor Statistics (https://www.bls.gov/oes/current/oes_nat.htm).
*** This figure does not represent actual costs that SSA is imposing on recipients of Social Security payments to complete this application; rather, these are theoretical opportunity costs for the additional time respondents will spend to complete the application. There is no actual charge to respondents to complete the application.

5. Internet and Telephone Appointment Applications—20 CFR 404.620-404.630, 416.330-416.340—0960-0822. SSA offers both internet and Telephone appointment options for applicants or recipients who wish to request an appointment when they are unable to complete one of SSA's online or automated telephone applications because they failed the initial verification checks, or who state their reading language preference is other than English.

• iAppointment: iAppointment is an online process that allows members of the public an easy-to-use method to schedule an appointment with the servicing office of their choice. Since the application date can affect when a claimant's benefit begins, iAppointment establishes a protective filing date and provides respondents information related to the date by which they must file their actual application. The iAppointment application propagates information the applicant already entered onto any of SSA's internet applications for SSN, name, date of birth, and gender. However, applicants must provide minimal additional information: mailing address; telephone number; language preference; type of appointment (Disability, Retirement, Medicare); and whether they prefer a telephone interview or in-office appointment. iAppointment is a customer-centric application. If the available appointment times do not meet the customer's needs, iAppointment allows them to enter a different zip code to identify another field office, which may offer different appointment times. At this time, SSA only allows domestic first party applicants to use iAppointment. If users indicate they are filing as third parties, iAppointment provides a message directing them to call the National 800 Number for assistance. If a foreign first party user is unable to complete iClaim, iAppointment directs them to contact a Social Security representative, and provides a link to SSA's Service Around the World website.

• Enhanced Leads and Appointment System (eLAS)—eLAS is an Intranet-based version of the iAppointment screens for use by SSA technicians both in the field offices and call centers. eLAS interacts with iAppointment directly to ensure we always record the same information whether an individual requests an appointment through our internet screens, or via telephone. eLAS is a non-public facing system that allows SSA employees in the field offices, workload support units, and teleservice centers to use a telephone interview process to schedule appointments and document an individual's intent to file using a specific script and asking the same questions to each individual. We use eLAS with individuals who use our automated telephone system, or who prefer not to use iAppointment to set up their appointment.

The respondents are individuals who are unable to use our internet or automated telephone systems because they failed the initial verification checks, or because they state their reading language preference is other than English.

Type of Request: Revision of an OMB-approved information collection.

Modality of completion | Number of respondents | Frequency of response | Average burden per response (minutes) | Estimated total annual burden (hours) | Average theoretical hourly cost amount (dollars) * | Average combined wait time in field office or for teleservice center (minutes) ** | Total annual opportunity cost (dollars) ***
iAppointment | 20,965 | 1 | 10 | 3,494 | * $31.48 |  | *** $109,991
eLAS | 7,270,161 | 1 | 10 | 1,211,694 | * 31.48 | ** 21 | **** 118,246,750
Totals | 7,291,126 |  |  | 1,215,188 |  |  | *** 118,356,741
* We based these figures on average U.S. worker's hourly wages (based on BLS.gov data, (https://www.bls.gov/oes/current/oes_nat.htm).
** We based this figure on the combined average FY 2024 wait times for field offices (approximately 24 minutes per respondent) and teleservice centers (approximately 17 minutes per respondent), based on SSA's current management information data.
*** This figure does not represent actual costs that SSA is imposing on recipients of Social Security payments to complete this application; rather, these are theoretical opportunity costs for the additional time respondents will spend to complete the application. There is no actual charge to respondents to complete the application.

Dated: April 3, 2024.
Naomi Sipple,
Reports Clearance Officer, Social Security Administration.

[FR Doc. 2024-07449 Filed 4-8-24; 8:45 am]

BILLING CODE 4191-02-P